FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)523-5793 or tradeanalysis@fmc.gov.

Agreement No.: 011261-010.

Title: ACL/WWL Agreement.

Parties: Atlantic Container Line AB and Wallenius Wilhelmsen Logistics AS.

Filing Party: Wayne R. Rohde, Esq.; Cozen O'Connor; 1200 19th Street NW., Washington, DC 20036.

Synopsis: The amendment deletes the December 31, 2015 expiration date and gives the agreement an indefinite duration.

Agreement No.: 012225-001.

Title: King Ocean/Seaboard Space Charter Agreement.

Parties: Seaboard Marine, Ltd. and King Ocean Services Limited, Inc.

Filing Party: Wayne R. Rohde, Esq.; Cozen O'Connor; 1200 19th Street NW., Washington, DC 20036.

Synopsis: The amendment would revise the amount of space being chartered under the agreement.

Agreement No.: 012237-001.

Title: Liberty Global Logistics LLC/Hapag-Lloyd USA, LLC Cooperative Working Agreement.

Parties: Liberty Global Logistics LLC and Hapag-Lloyd USA, LLC.

Filing Parties: Wayne R. Rohde, Esq.; Cozen O'Connor; 1200 19th Street NW., Washington, DC 20036.

Synopsis: The amendment updates the address of Hapag Lloyd USA.

Dated: November 27, 2015.
Karen V. Gregory,
Secretary.

[FR Doc. 2015-30537 Filed 12-1-15; 8:45 am]

BILLING CODE 6731-AA-P